DEPARTMENT OF HOMELAND SECURITY

Coast Guard

33 CFR Part 165

[Docket No. USCG-2011-0324]

Security Zone; Portland Rose Festival on Willamette River

AGENCY: Coast Guard, DHS.

ACTION: Notice of enforcement of regulation.

SUMMARY: The Coast Guard will enforce the Portland Rose Festival Security Zone in 33 CFR 165.1312 from 11 a.m. on June 8, 2011 until 11 a.m. on June 13, 2011. This action is necessary to ensure the security of maritime traffic, including the public vessels present, on the Willamette River during the Portland Rose festival. During the enforcement period, no person or vessel may enter or remain in the security zone without permission of the Captain of the Port, Columbia River, Oregon.

DATES: The regulations in 33 CFR 165.1312 will be enforced from 11 a.m. on June 8, 2011, through 11 a.m. on June 13, 2011.

FOR FURTHER INFORMATION CONTACT: If you have questions on this notice, call or e-mail MST1 Jaime Sayers, Waterways Management Division, Coast Guard MSU Portland; telephone 503-240-9327, e-mail Jaime.a.Sayers@uscg.mil.

SUPPLEMENTARY INFORMATION:

The Coast Guard will enforce the Portland Rose Festival security zone on the Willamette River from 11 a.m. on June 8, 2011, through 11 a.m. on June 13, 2011. The security zone includes all waters of the Willamette River, from surface to bottom, encompassed by the Hawthorne and Steel Bridges.

Under the provisions of 33 CFR 165.1312 and 33 CFR 165 Subpart D, no person or vessel may enter or remain in the security zone without permission of the Captain of the Port, Columbia River. Persons or vessels wishing to enter the security zone may request permission to do so from the Captain of the Port's on-scene designated representative via VHF Channel 16 or 13. The Coast Guard may be assisted by other Federal, State, or local enforcement agencies in enforcing this regulation.

This notice is issued under authority of 33 CFR 165.1312 and 5 U.S.C. 552 (a). In addition to this notice in the Federal Register, the Coast Guard will provide the maritime community with notification of this enforcement period via the Local Notice to Mariners.

Dated: April 28, 2011.
D.E. Kaup,
Captain, U.S. Coast Guard, Captain of the Port, Columbia River.

[FR Doc. 2011-12010 Filed 5-16-11; 8:45 am]

BILLING CODE 9110-04-P